DEPARTMENT OF ENERGY

Federal Energy Regulatory Commission

[Docket No. CP02-37-000]

Williston Basin Interstate Pipeline Company; Amended Notice of Intent To Prepare an Environmental Impact Statement for the Proposed Grasslands Project and Request for Comments on Environmental Issues

October 8, 2002.

As previously noticed on February 5, 2002, and amended herein, the staff of the Federal Energy Regulatory Commission (FERC or Commission) will prepare an environmental impact statement (EIS) that will discuss the environmental impacts of the Grasslands Project, as amended, involving construction, operation, and abandonment of facilities by Williston Basin Interstate Pipeline Company (WBI).¹ WBI proposes to construct new pipeline and appurtenant facilities in Wyoming, Montana, and North Dakota to transport 80,000 (rather than the originally proposed 120,000) thousand cubic feet per day (Mcf/d) of natural gas from the Powder River Basin to its storage facilities in Montana and to the Northern Border Pipeline Company's system in North Dakota. This EIS will be used by the Commission in its decision-making process to determine whether the project is in the public convenience and necessity.

¹ WBI's application was filed with the Commission under sections 7(b) and (c) of the Natural Gas Act on November 30, 2001, and amended on September 27, 2002.

The FERC will be the lead Federal agency for the preparation of the EIS. The Miles City Field Office of the U.S. Department of the Interior's Bureau of Land Management (BLM), the Medora Ranger District of the U.S. Department of Agriculture's Forest Service (FS), and the Montana Department of Environmental Quality (MTDEQ) will be cooperating with us in the preparation of the EIS. Meetings with the MTDEQ, BLM, and FS were held January 14, 15, and 16, 2002, respectively, to discuss procedural and potential environmental issues for this project.² Other Federal, state, and tribal agencies with jurisdiction and/or special expertise with respect to environmental issues may also request cooperating agency status.

² Summaries of these meetings have been placed in the public file in this docket.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice WBI provided to landowners. This fact sheet addresses a number of typically asked questions, including the use of eminent domain and how to participate in the Commission's proceedings. It is available for viewing on the FERC Internet Web site (www.ferc.gov).

This notice is being sent to landowners of property crossed by and adjacent to both WBI's originally proposed route and their currently proposed route, as filed in WBI's September 27, 2002 Amendment filing (the EIS will evaluate both routes); tenants and lessees on affected public land; Federal, state, and local agencies; elected officials; Indian tribes that might attach religious and cultural significance to historic properties in the area of potential effects; environmental and public interest groups; and local libraries and newspapers. State and local government representatives are encouraged to notify their constituents of this proposed action and encourage them to comment on their areas of concern.

Summary of the Proposed Project (as Amended on September 27, 2002)

The proposed facilities consist of about 248 miles of pipeline and 5,329 (rather than the originally proposed 12,540) horsepower (hp) of compression. Additionally, WBI is seeking to abandon certain other pipeline facilities in Wyoming and Montana. WBI also has revised its construction schedule, proposing to construct the Grasslands Project in three phases. Specifically, WBI seeks authority to:

• Construct approximately 219 miles of new 16-inch-diameter pipeline from near Belle Creek, Montana, to the proposed Manning Compressor Station in Dunn County, North Dakota (no change, except for approximately 69.5 miles of proposed route realignments);

• Construct approximately 28 miles of 16-inch-diameter pipeline loop ³ adjacent to its existing Bitter Creek supply lateral pipeline in Wyoming (no change, except for approximately 2.6 miles of proposed route realignments);

³ A loop is a segment of pipeline that is usually installed adjacent to an existing pipeline and connected to it at both ends. The loop allows more gas to be moved through the system.

• Increase the maximum allowable operating pressure (MAOP) on approximately 28 miles of its existing 8-inch-diameter Bitter Creek supply lateral pipeline in Wyoming from 1,203 pounds per square inch gauge (psig) to 1,440 psig, and abandon in place segments of existing pipe at three road crossings and replace them with heavier walled pipe (new, per amended filing);

• Increase the MAOP on approximately 40 miles of its existing 8-inch-diameter Recluse-Belle Creek supply lateral pipeline in Wyoming and Montana from 1,203 pounds per square inch gauge (psig) to 1,440 psig, and abandon in place segments of existing pipe at eight road crossings and replace them with heavier walled pipe (no change);

• Construct 4,180 hp of gas fired compression (comprised of two 2,090 hp compressors) at one new compressor station located in Dunn County, North Dakota (Manning Compressor Station), and install electric coolers rather than running the coolers off the horsepower produced at the station (previously, WBI was proposing two more additional compressor stations, each with 4,180 hp);

• Install an additional transmission compressor unit (1,200 hp) at the existing Cabin Creek Compressor Station in Fallon County, Montana (new, per amended filing);

• Construct 0.9 mile of 12-inch-diameter pipeline from the proposed mainline to the existing Cabin Creek Compressor Station in Fallon County, Montana (no change, except that this line would have connected the previously proposed Cabin Creek South Compressor Station to the existing Cabin Creek Compressor Station);

• Construct 1.0 mile of 16-inch-diameter pipeline from the proposed Manning Compressor Station to interconnect with Northern Border Pipeline Company's Compressor Station 5 in Dunn County, North Dakota (no change); and

• Construct various additional facilities, including 14 mainline valves, 4 cathodic protection units, 8 pig launchers/receivers (2 fewer than previously proposed), 5 metering stations (2 fewer than previously proposed), and 2 regulators (3 fewer than previously proposed).

WBI indicates in its September 27, 2002 Amended filing that it will no longer be necessary to build an amine treatment facility as part of its proposal.

The general location of the project facilities is shown in appendix 1.⁴

⁴ The appendices referenced in this notice are not being printed in the Federal Register. Copies are available on the Commission's Web site at the “FERRIS” link or from the Commission's Public Reference and Files Maintenance Branch, 888 First Street, NE., Washington, DC 20426, or call 1-866-208-3676. For instructions on connecting to FERRIS refer to the last page of this notice. Copies of the appendices were sent to all those receiving this notice in the mail.

Land Requirements for Construction

Construction of WBI's proposed pipeline facilities would require about 3,124.8 acres of land including the construction right-of-way, extra workspaces, and contractor/pipe yards, and access roads. WBI proposes to use a 100-foot-wide construction right-of-way. Following construction and restoration of the right-of-way and temporary work spaces, WBI would retain a 50-foot-wide permanent pipeline right-of-way. Total land requirements for the permanent right-of-way would be about 1,526.1 acres, some of which would overlap existing rights-of-way.

WBI proposes to acquire 10 acres for the proposed Manning Compressor Station. The entire 10 acre parcel could be disturbed during construction and would be fenced following construction. WBI also will require 0.33 acre of land for the Cabin Creek tie-in in Fallon County, Montana.

The EIS Process

The National Environmental Policy Act (NEPA) requires the Commission to take into account the environmental impacts that could result from an action whenever it considers the issuance of a Certificate of Public Convenience and Necessity. NEPA also requires us ⁵ to discover and address concerns the public may have about proposals. We call this “scoping”. The main goal of the scoping process is to focus the analysis in the EIS on the important environmental issues. By this Notice of Intent, the Commission requests public comments on the scope of the issues it will address in the EIS. All comments received are considered during the preparation of the EIS. State and local government representatives are encouraged to notify their constituents of this proposed action and encourage them to comment on their areas of concern.

⁵ ”We”, “us”, and “our” refer to the environmental staff of the Office of Energy Projects (OEP).

Our independent analysis of the impacts that could occur as a result of the construction and operation of the proposed project will be in the Draft EIS. The Draft EIS will be mailed to Federal, state, and local agencies, public interest groups, affected landowners and other interested individuals, Indian tribes, newspapers, libraries, and the Commission's official service list for this proceeding. A 45-day comment period will be allotted for review of the Draft EIS. We will consider all comments on the Draft EIS and revise the document, as necessary, before issuing a Final EIS. The Final EIS will include our response to each comment received on the Draft EIS and will be used by the Commission in its decision-making process to determine whether to approve the project.

To ensure your comments are considered, please carefully follow the instructions in the public participation section beginning on page 6.

Currently Identified Environmental Issues

We have already identified several issues that we think deserve attention based on a preliminary review of the environmental information provided by WBI and discussions with the cooperating agencies. This preliminary list of issues may be changed based on your comments and our analysis.

• Geology

—Impact on mineral resources

—Paleontological concerns

• Cultural Resources

—Impact on the proposed Custer-Sully Historic Corridor

• Soils and Vegetation

• Construction on steep slopes

—Noxious weeds

—Seed mixes for restoration

—Loss of riparian vegetation

• Water Resources and Wetlands

—Use of directional drilling

—Ensuring pipe is placed below scour depth

• Wildlife and Fisheries

—Impact on bighorn sheep habitat

—Impact on raptor nesting and roosting areas

—Impact on sage grouse habitat

• Endangered and Threatened Species

—Impact on Federally-listed species

—Impact on FS, BLM, and state sensitive species

• Socioeconomic Impacts

• Public Safety

• Cumulative Impacts

—Discussion of regional coal bed methane development

• Air Quality and Noise

—Visibility degradation

—Compressor station emissions

—Noise from compressor stations

• Alternative Routes and Site Locations

—Co-location with other pipelines may not be feasible in certain areas across Little Missouri National Grasslands

—Abandonment method for road crossings (in-place vs. removal)

• Land Use

—Use of access roads on public land

—Impact on planned residential or commercial development

—Ensuring access across the right-of-way for cattle during construction

Public Participation

You can make a difference by providing us with your specific comments or concerns about the project. By becoming a commentor, your concerns will be addressed in the EIS and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of OEP—Gas 1, PJ-11.1.

• Reference Docket No. CP02-37-000.

• Mail your comments so that they will be received in Washington, DC on or before November 8, 2002.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create an account which can be created by clicking on “Login to File” and then “New User Account.”

All commentors will be retained on our mailing list. If you do not want to send comments at this time but still want to stay informed and receive copies of the Draft and Final EISs, you must return the attached Information Request (appendix 3). Note: If you have already sent comments in response to the February 5, 2002 Notice, you do not need to send them again to be retained on the mailing list. If you do not send, or have not sent, comments or return the Information Request, you will be taken off the mailing list.

Becoming an Intervenor

In addition to involvement in the EIS scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to rule 214 of the Commission's rules of practice and procedure (18 CFR 385.214) (see appendix 2).⁶ Only intervenors have the right to seek rehearing of the Commission's decision.

⁶ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies to express their interest in becoming cooperating agencies for the preparation of the EIS.

Additional Information

Additional information about the project is available from the Commission's Office of External Affairs, at 1-866-208-FERC or on the FERC Internet Web site (www.ferc.gov) using the FERRIS link. Click on the FERRIS link, enter the docket number excluding the last three digits in the Docket Number field. Be sure you have selected an appropriate date range. For assistance with FERRIS, the FERRIS helpline can be reached at 1-866-208-3676, TTY (202) 502-8659, or at ferconlinesupport@ferc.gov. The FERRIS link on the FERC Internet Web site also provides access to the texts of formal documents issued by the Commission, such as orders, notices, and rulemakings.

Linwood A. Watson, Jr.,
Deputy Secretary.

[FR Doc. 02-26076 Filed 10-11-02; 8:45 am]

BILLING CODE 6717-01-P